DEPARTMENT OF ENERGY

Federal Energy Regulatory Commission

Combined Notice of Filings #1

Take notice that the Commission received the following exempt wholesale generator filings:

Docket Numbers: EG23-177-000.

Applicants: Rayburn Energy Station LLC.

Description: Rayburn Energy Station LLC submits Notice of Self-Certification of Exempt Wholesale Generator Status.

Filed Date: 6/6/23.

Accession Number: 20230606-5132.

Comment Date: 5 p.m. ET 6/27/23.

Take notice that the Commission received the following electric rate filings:

Docket Numbers: ER10-2732-021; ER10-2733-021; ER10-2734-021; ER10-2736-021; ER10-2737-021; ER10-2741-021; ER10-2749-022; ER10-2752-021; ER12-2492-017; ER12-2493-017; ER12-2494-017; ER12-2495-017; ER12-2496-017; ER16-2455-011; ER16-2456-011; ER16-2457-011; ER16-2459-011; ER18-1404-007; ER19-2096-004.

Applicants: Emera Energy LNG, LLC, NS Power Energy Marketing Inc., Emera Energy Services Subsidiary No. 15 LLC, Emera Energy Services Subsidiary No. 13 LLC, Emera Energy Services Subsidiary No. 12 LLC, Emera Energy Services Subsidiary No. 11 LLC, Emera Energy Services Subsidiary No. 10 LLC, Emera Energy Services Subsidiary No. 9 LLC, Emera Energy Services Subsidiary No. 8 LLC, Emera Energy Services Subsidiary No. 7 LLC, Emera Energy Services Subsidiary No. 6 LLC, Emera Energy Services Subsidiary No. 5 LLC, Emera Energy Services Subsidiary No. 4 LLC, Emera Energy Services Subsidiary No. 3 LLC, Emera Energy Services Subsidiary No. 2 LLC, Emera Energy Services Subsidiary No. 1 LLC, Emera Energy U.S. Subsidiary No. 2, Inc., Emera Energy U.S. Subsidiary No. 1, Inc., Emera Energy Services, Inc.

Description: Triennial Market Power Analysis for Northeast Region of Emera Energy Services, Inc., et al.

Filed Date: 6/2/23.

Accession Number: 20230602-5266.

Comment Date: 5 p.m. ET 8/1/23.

Docket Numbers: ER23-1307-001.

Applicants: New York Independent System Operator, Inc.

Description: Tariff Amendment: NYISO Response to Deficiency Letter re: virtual and external transactions to be effective 9/12/2023.

Filed Date: 6/5/23.

Accession Number: 20230605-5133.

Comment Date: 5 p.m. ET 6/26/23.

Docket Numbers: ER23-2075-000.

Applicants: FirstEnergy Service Company, PJM Interconnection, L.L.C.

Description: § 205(d) Rate Filing: FirstEnergy Service Company submits tariff filing per 35.13(a)(2)(iii: FirstEnergy submits Operating and Interconnection Agreement, SA No. 2853 to be effective 8/5/2023.

Filed Date: 6/5/23.

Accession Number: 20230605-5140.

Comment Date: 5 p.m. ET 6/26/23.

Docket Numbers: ER23-2076-000.

Applicants: Southwest Power Pool, Inc.

Description: § 205(d) Rate Filing: 2881R15 City of Chanute, KS NITSA NOA to be effective 6/1/2023.

Filed Date: 6/6/23.

Accession Number: 20230606-5008.

Comment Date: 5 p.m. ET 6/27/23.

Docket Numbers: ER23-2077-000.

Applicants: Louisville Gas and Electric Company.

Description: § 205(d) Rate Filing: Amended Joint Reliability Coordination Agreement LGEKU RS FERC No. 524 to be effective 8/5/2023.

Filed Date: 6/6/23.

Accession Number: 20230606-5043.

Comment Date: 5 p.m. ET 6/27/23.

Docket Numbers: ER23-2078-000.

Applicants: PJM Interconnection, L.L.C.

Description: § 205(d) Rate Filing: Joint Reliability Coordination Agreement TVA LGE/KU to be effective 8/5/2023.

Filed Date: 6/6/23.

Accession Number: 20230606-5051.

Comment Date: 5 p.m. ET 6/27/23.

Docket Numbers: ER23-2079-000.

Applicants: Kentucky Utilities Company.

Description: § 205(d) Rate Filing: KU Concurrence_Amended Joint Reliability Coordination Agmt LGEKU FERC RS No. 524 to be effective 8/5/2023.

Filed Date: 6/6/23.

Accession Number: 20230606-5055.

Comment Date: 5 p.m. ET 6/27/23.

Docket Numbers: ER23-2080-000.

Applicants: Daylight I, LLC.

Description: § 205(d) Rate Filing: Amended and Restated Facilities Use Agreements to be effective 6/7/2023.

Filed Date: 6/6/23.

Accession Number: 20230606-5073.

Comment Date: 5 p.m. ET 6/27/23.

Docket Numbers: ER23-2081-000.

Applicants: Southwest Power Pool, Inc.

Description: § 205(d) Rate Filing: Tariff Clean-Up Filing Effective 20230706 to be effective 7/6/2023.

Filed Date: 6/6/23.

Accession Number: 20230606-5098.

Comment Date: 5 p.m. ET 6/27/23.

Docket Numbers: ER23-2082-000.

Applicants: Midcontinent Independent System Operator, Inc.

Description: § 205(d) Rate Filing: 2023-06-06_SA 3296 ITC-DIG J1262 J1798 2nd Rev GIA to be effective 5/30/2023.

Filed Date: 6/6/23.

Accession Number: 20230606-5110.

Comment Date: 5 p.m. ET 6/27/23.

Docket Numbers: ER23-2083-000.

Applicants: Edwards Solar Line I, LLC.

Description: Tariff Amendment: Notice of Cancellation to be effective 6/7/2023.

Filed Date: 6/6/23.

Accession Number: 20230606-5117.

Comment Date: 5 p.m. ET 6/27/23.

Docket Numbers: ER23-2084-000.

Applicants: Sanborn Solar Line I, LLC.

Description: § 205(d) Rate Filing: Certificate of Concurrence for Amended and Restated Facilities Use Agreement to be effective 6/7/2023.

Filed Date: 6/6/23.

Accession Number: 20230606-5119.

Comment Date: 5 p.m. ET 6/27/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: June 6, 2023.
Debbie-Anne A. Reese,
Deputy Secretary.

[FR Doc. 2023-12464 Filed 6-9-23; 8:45 am]

BILLING CODE 6717-01-P